DEPARTMENT OF TRANSPORTATION

Federal Aviation Administration

Notice of Availability, Notice of Industry Day Meeting, and Request for Comment on the Draft Engineering Brief 105A for Vertiport Design

AGENCY: Federal Aviation Administration (FAA), Department of Transportation (DOT).

ACTION: Notice of availability, notice of industry day meeting, and request for comment.

SUMMARY: The FAA's Office of Airports is announcing the availability of and requesting comments on the update to Engineering Brief (EB) 105 for Vertiport Design (referred to as EB 105A). This draft EB provides updated interim safety standards for aviation facilities that electric Vertical Take-Off and Landing (eVTOL) aircraft use for take-off and landing. These types of aviation facilities are commonly referred to as `vertiports'. Draft EB 105A will be posted Friday, September 20, 2024, on the FAA website at: https://www.faa.gov/airports/engineering/engineering_briefs/drafts/. A comment matrix will also be available for members of the public to use to submit written comments. The FAA will hold a virtual industry day meeting on the draft EB 105A on Monday, September 30, 2024. Registration is required to attend. See the DATES and ADDRESSES sections for more information.

DATES:

Comments on draft EB 105A: Please submit comments no later than Friday, October 18, 2024.

Virtual industry day: The virtual industry day will be held on Monday, September 30, 2024, 11:00 a.m.-4:00 p.m., EDT. See the ADDRESSES section for information about registering.

ADDRESSES:

Comments on Draft EB 105A: Please submit comments or questions regarding the draft EB 105A by email to the Federal Aviation Administration at vertiports@faa.gov.

Registration for industry day: Pre-registration is necessary to receive the link for the virtual industry day meeting. Please visit https://www.faa.gov/airports/engineering/engineering_briefs/drafts/ for registration information or to request special accommodations.

FOR FURTHER INFORMATION CONTACT: Mr. Robert Bassey, Office of Airports, Federal Aviation Administration, 800 Independence Ave. SW, Washington, DC 20591, phone: (202) 267-7605, email: Robert.Bassey@faa.gov.

SUPPLEMENTARY INFORMATION: The FAA developed draft EB 105A to update the interim safety standards for the design and operation of aviation facilities that electric Vertical Take-Off and Landing (eVTOL) aircraft use for take-off and landing. These take-off and landing facilities for eVTOL aircraft are commonly referred to as `vertiports'.

EB 105A is a revision to the original EB 105 issued on September 21, 2022. Principal changes include adjustments to the sizing of the vertiport geometry, information about aircraft parking, and the creation of a protection area to address aircraft downwash and outwash. The agency has and continues to conduct operational testing with a number of Original Equipment Manufacturers developing eVTOL aircraft. The updates identified in EB 105A were informed through operational testing findings.

The FAA will hold a virtual industry day meeting on the draft EB 105A on September 30, 2024, at 11:00 a.m. EDT. During this meeting, the FAA will provide an overview of the EB update, discuss some critical aspects of the draft currently under consideration, and provide an opportunity for attendees to ask questions about it. Interested parties who wish to participate in the industry day meeting will need to register and can access information on how to register on the web page where the draft EB is posted.

The FAA is seeking public comments on the draft EB 105A for Vertiport Design to help inform the development of the final EB update. The draft EB will be available starting Friday, September 20, 2024, on the FAA website at: https://www.faa.gov/airports/engineering/engineering_briefs/drafts/.

Members of the public should use the comment matrix provided with the draft EB to submit comments. Completed comment matrices should be submitted to the email address listed in the ADDRESSES section. The FAA will not accept comments during the industry day meeting.

The FAA would like to publish a final EB 105A for Vertiport Design later this year, following the adjudication of comments received during this public comment period. The FAA intends to publish a new Advisory Circular (AC) on Vertiport Design in 2025 to provide additional guidance in this area. Once the FAA issues a new AC, the agency will cancel EB 105A.

Dated: September 10, 2024.
Keri L. Lyons,
Manager, Office of Airports Emerging Entrants Division.

[FR Doc. 2024-20915 Filed 9-13-24; 8:45 am]

BILLING CODE 4910-13-P